DEPARTMENT OF TRANSPORTATION

[Docket No.: DOT-OST-2025-2085]

Transportation Research and Development Strategic Plan; Request for Information

AGENCY: Office of the Assistant Secretary for Research and Technology (OST-R), U.S. Department of Transportation.

ACTION: Request for Information (RFI).

SUMMARY: 49 U.S.C. 6503 requires that the Secretary of Transportation develop a 5-year transportation research and development strategic plan to guide future Federal transportation research and development activities. The statute states that the strategic plan shall describe how the plan furthers the primary purpose of the transportation research and development program. The Office of the Assistant Secretary for Research and Technology (OST-R) invites the public and transportation system stakeholders to provide comments to inform the development of the U.S. Department of Transportation (DOT or Department) Research, Development, and Technology (RD&T) Strategic Plan for fiscal years (FY) 2026-2030. We welcome the views of the transportation research community on the Department's research vision, strategic goals, and priorities, and how our research programs can advance the transportation system of the present and future.

DATES: Comments are due by February 12, 2026. DOT will consider comments filed after this date to the extent practicable.

ADDRESSES: Written comments may be submitted by email or U.S. mail. Respondents are encouraged to submit comments electronically to ensure timely receipt. Please include your name, title, organization, postal address, telephone number, and email address.

• Electronic Submission: Go to http://www.regulations.gov. Search by using the docket number (provided above). Follow the instructions for sending comments.

• Email: rdtplan@dot.gov. Include the docket number in the subject line of the message. Please include the full body of your comments in the text of the electronic message and as an attachment.

• Mail: U.S. Department of Transportation, Docket Operations, West Building 5th Floor, Room W58-213, 1200 New Jersey Avenue SE, Washington, DC 20590.

• Instructions: All submissions must include the agency name and docket numbers.

FOR FURTHER INFORMATION CONTACT: Gina Filosa, U.S. DOT Volpe Center, 617-494-3452, rdtplan@dot.gov.

SUPPLEMENTARY INFORMATION:

Background: 49 U.S.C. Chapter 65 outlines the following primary purposes of transportation research:

• Improving mobility of people and goods

• Reducing congestion

• Promoting safety

• Improving the durability and extending the life of transportation infrastructure

• Preserving the environment

• Preserving the existing transportation system

• Reducing transportation cybersecurity risks

In addition to the outlined primary transportation research purposes, the Department's Strategic Plan also guides the Department's research priorities, objectives, and strategies.

To align its research strategy and programs with the Department's goals, the DOT is developing a new RD&T Strategic Plan for FY 2026-2030. OST-R invites the public to provide comments to inform the development of the 5-year strategic plan for transportation RD&T. Comments should regard appropriate RD&T activities to meet the purposes and considerations listed above and/or emerging RD&T challenges, opportunities, and priorities that DOT RD&T should address over the next five years. In particular, comments may respond to any or all of the following questions:

1. How should DOT prioritize and invest in research activities over the next five years? Over the next 25 years?

2. What types of research activities should DOT undertake to meet its strategic goals?

3. What key social, demographic, economic, technological, and/or other trends influence transportation today and into the future?

4. What emerging challenges or opportunities or knowledge gaps in transportation warrant additional DOT RD&T activities or investments?

5. How can DOT best lead and coordinate its RD&T activities with Federal, State, local, tribal and territorial governments, the private sector, non-profit institutions, and international partners?

6. How can DOT best use its research portfolio to develop national standards that can drive interoperability across the multimodal transportation system?

7. What activities should DOT adopt to facilitate deployment of DOT research results into the U.S. transportation system?

8. Is there anything else you want to share or say regarding DOT's research portfolio and activities?

Signed in Washington, DC, on January 8, 2026.
Michael A. Halem,
Acting Assistant Secretary for Research and Technology.

[FR Doc. 2026-00455 Filed 1-12-26; 8:45 am]

BILLING CODE 4910-9X-P